DEPARTMENT OF COMMERCE

International Trade Administration

[A-357-812]

Honey From Argentina; Rescission of Antidumping Duty Administrative Review; 2010-2011

AGENCY: Import Administration, International Trade Administration, Department ofCommerce.

SUMMARY: The Department of Commerce (the Department) is rescinding the 2010-2011 antidumping duty administrative review on honey from Argentina because all parties have withdrawn their requests for review and the antidumping duty order on imports of honey from Argentina is being revoked, effective December 1, 2010.

DATES: Effective December 31, 2012.

FOR FURTHER INFORMATION CONTACT: Patrick Edwards or Angelica Mendoza, AD/CVD Operations, Office 7, Import Administration, International Trade Administration, U.S. Department of Commerce, 14th Street and Constitution Avenue NW, Washington, DC 20230, at (202) 482-8029 or (202) 482-3019, respectively.

SUPPLEMENTARY INFORMATION:

Background

On December 10, 2001, the Department published the antidumping duty order on honey from Argentina.¹ On December 1, 2011, the Department published in the Federal Register the notice of opportunity to request an administrative review of the antidumping duty order on honey from Argentina for the period December 1, 2010, through November 30, 2011.² Between December 29, 2011, and January 3, 2012, the Department received several requests from interested parties that the Department conduct an administrative review of certain producers/exporters of honey from Argentina.³ On January 31, 2012, the Department published in the Federal Register the notice of initiation of the 2010-2011 administrative review of honey from Argentina.⁴

¹ See Notice of Antidumping Duty Order: Honey from Argentina, 66 FR 63672 (December 10, 2001) (Order).

² See Antidumping or Countervailing Duty Order, Finding, or Suspended Investigation; Opportunity To Request Administrative Review, 76 FR 74773 (December 1, 2011).

³ See Letter from Nexco S.A. (Nexco), titled “Request for Administrative Review and Revocation of Antidumping Duty Order,” dated December 29, 2011; Letter from Algodonera Avellaneda, S.A. (Algodonera), titled “Request for Administrative Review,” dated December 30, 2011; Letter from Apícola Danangie, Compañía Inversora Platense S.A. (CIPSA), Mielar S.A./Compañía Apícola Argentina S.A., Patagonik S.A., TransHoney S.A., and Villamora S.A., titled “Administrative Review Request,” dated December 31, 2011; and Letter from the American Honey Producers Association and the Sioux Honey Association (petitioners), titled “Request for Review,” dated January 3, 2011.

⁴ See Initiation of Antidumping and Countervailing Duty Administrative Reviews and Requests for Revocation in Part, 77 FR 4759 (January 31, 2012) (Initiation Notice).

On February 23, 2012, the Department released the results of a data query to U.S. Customs and Border Protection (CBP) regarding imports into the United States of honey from Argentina during the period of review (POR).⁵ We did not receive any comments from parties regarding the CBP entry data. On March 19, 2012, the Department selected mandatory respondents for this administrative review based on import volume figures (i.e., HoneyMax S.A. (Honeymax) and Nexco).⁶ On March 22, 2012, the Department issued the antidumping duty questionnaire to Honeymax and Nexco. On April 24, 2012, the American Honey Producers Association and the Sioux Honey Association (collectively, petitioners) withdrew their request for review for ten of the original twenty-two companies for which they had made a review request, including Honeymax, a mandatory respondent.⁷ We received Nexco's response to section A of the antidumping duty questionnaire on April 26, 2012.⁸ On April 27, 2012, petitioners additionally withdrew their request for TransHoney S.A. and we concurrently received a notice of withdrawal from TransHoney S.A. itself.⁹

⁵ See Memorandum to the File, from Patrick Edwards, Analyst, regarding “United States Customs and Border Protection Entry Data for Selection of Respondents for Individual Review,” dated February 23, 2012.

⁶ See Memorandum to the File, from Patrick Edwards, titled “Respondent Selection Memorandum,” dated March 19, 2012.

⁷ See Letter from petitioners, titled “Partial Withdrawal of 10th Annual Administrative Review,” dated April 24, 2012.

⁸ See Nexco's section A Questionnaire Response, dated April 26, 2012.

⁹ See Letter from petitioners, titled “Partial Withdrawal of 10th Annual Administrative Review,” dated April 27, 2012; see also Letter from TransHoney S.A., titled “Withdrawal of Antidumping Administrative Review Request of TransHoney S.A.,” dated April 27, 2012.

Because petitioners timely withdrew their request for review regarding HoneyMax, and because HoneyMax did not self-request a review, we issued a supplemental respondent selection memorandum, selecting CIPSA as the alternate mandatory respondents.¹⁰ We issued the antidumping duty questionnaire to CIPSA on May 16, 2012. We received Nexco's responses to sections B and C of the Department's questionnaire on May 22, 2012.¹¹ We received CIPSA's section A questionnaire response, and its section B and C questionnaire responses on June 18, 2012, and June 29, 2012, respectively.¹²

¹⁰ See Memorandum to the File, from Patrick Edwards, Analyst, titled “Respondent Selection Memorandum,” dated May 8, 2012.

¹¹ See Nexco's section B and C Questionnaire Responses, dated May 22, 2012.

¹² See CIPSA's section A Questionnaire Response, dated June 18, 2012; see also CIPSA's section B and C Questionnaire Response, dated June 29, 2012.

On July 24, 2012, petitioners filed a submission withdrawing their review requests for the remaining companies for which they had requested a review and further indicated that they were simultaneously filing a request for the initiation of a “no interest” changed circumstances review, under which petitioners would be seeking the revocation of the Order on honey from Argentina.¹³ We received similar withdrawals of request for review from Nexco and CIPSA also on July 24, 2012. On July 30, 2012, all remaining parties that had requested an administrative review during the instant POR withdrew their requests for review given petitioners' filing of a request for a “no interest” changed circumstances review, seeking revocation of the Order.

¹³ See Letter from petitioners, titled “Petitioners' Withdrawal of Request for Administrative Review,” dated July 24, 2012.

Period of Review

The POR is December 1, 2010, through November 30, 2011.

Scope of the Order

The merchandise covered by the order is honey from Argentina. The products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form. The merchandise is currently classifiable under subheadings 0409.00.00, 1702.90.90, and 2106.90.99 of the Harmonized Tariff Schedule of the United States (HTSUS). Although the HTSUS subheadings are provided for convenience and customs purposes, the Department's written description of the merchandise under the order is dispositive.

Rescission of Antidumping Duty Administrative Review

As the Order on honey from Argentina is being revoked, effective as of the first day of this administrative review period (i.e., December 1, 2010),¹⁴ the Department is rescinding this administrative review consistent with 19 CFR 351.213(d)(4) and 351.222(g)(4).

¹⁴ See notice of final results of changed circumstances review of honey from Argentina signed concurrently with this notice.

Assessment Instructions

Given the revocation of the Order, the Department will instruct CBP to terminate suspension of liquidation effective December 1, 2010. The Department will instruct CBP to liquidate without regard to antidumping duties, all unliquidated entries of the subject merchandise entered, or withdrawn from warehouse, for consumption on or after December 1, 2010. In accordance with section 778 of the Act, we will also instruct CBP to pay interest on and refund any AD deposits with respect to the subject merchandise entered, or withdrawn from warehouse, for consumption on or after December 1, 2010, the first day of this administrative review period, which is now terminated by virtue of the effective date of the revocation. The Department intends to issue appropriate assessment instructions to CBP 15 days after the date of publication of this notice of rescission of administrative review.

Notification Regarding Administrative Protective Orders

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

We are issuing and publishing this notice in accordance with sections 751(a)(1) and 777(i)(1) of the Tariff Act of 1930, as amended, and 19 CFR 351.213(d)(4).

Dated: December 20, 2012.
Christian Marsh,
Deputy Assistant Secretary for Antidumping and Countervailing Duty Operations.

[FR Doc. 2012-31450 Filed 12-28-12; 8:45 am]

BILLING CODE 3510-DS-P